ENVIRONMENTAL PROTECTION AGENCY

[EPA-HQ-OPPT-2018-0604; FRL-10017-38]

C.I. Pigment Violet 29; Revised Draft Toxic Substances Control Act (TSCA) Risk Evaluation; Notice of Availability, Letter Peer Review and Public Comment; Extension of Comment Period

AGENCY: Environmental Protection Agency (EPA).

ACTION: Notice.

SUMMARY: In the Federal Register of October 30, 2020, EPA announced the availability of and sought public comment on a revised draft risk evaluation of C. I. Pigment Violent 29 under the Toxic Substances Control Act (TSCA). This document extends the comment period for 20 days, from November 30, 2020 to December 19, 2020.

DATES: Comments, identified by docket identification (ID) number EPA-EPA-HQ-OPPT-2018-0604, must be received on or before December 19, 2020.

ADDRESSES: Submit your comments, identified by docket identification (ID) number EPA-EPA-HQ-OPPT-2018-0604, using the Federal eRulemaking Portal at http://www.regulations.gov. Follow the online instructions for submitting comments. Do not submit electronically any information you consider to be Confidential Business Information (CBI) or other information whose disclosure is restricted by statute.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT:

For technical information contact: Seema Schappelle, Risk Assessment Division, Office of Pollution Prevention and Toxics (7403M), Environmental Protection Agency, 1200 Pennsylvania Ave. NW, Washington, DC 20460-0001; telephone number: (202) 564-8006; email address: schappelle.seema@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register document of October 30, 2020 (85 FR 68873) (FRL-10015-96), which opened a 30-day public comment period for the revised draft risk evaluation of C. I. Pigment Violent 29 under the Toxic Substances Control Act (TSCA). EPA conducts TSCA risk evaluations to determine whether a chemical substance presents an unreasonable risk of injury to health or the environment without consideration of costs or other nonrisk factors, including an unreasonable risk to potentially exposed or susceptible subpopulations, under the conditions of use. The draft risk evaluation for C.I. Pigment Violet 29 has been revised to include information EPA received from the manufacturing stakeholders as a result of a TSCA section 4 order requiring testing of the chemical substance.

EPA is extending the comment period, which was set to end on November 30, 2020, to provide additional time for the public to review and comment on this revised draft risk evaluation prior to publishing a final risk evaluation (see Unit III. in the Federal Register document of October 30, 2020).

To submit comments, or access the docket, please follow the detailed instructions provided under ADDRESSES of this document. If you have questions, consult the person listed under FOR FURTHER INFORMATION CONTACT.

Authority: 15 U.S.C. 2601 et seq.

Dated: November 17, 2020.
Alexandra Dapolito Dunn,
Assistant Administrator, Office of Chemical Safety and Pollution Prevention.

[FR Doc. 2020-25823 Filed 11-20-20; 8:45 am]

BILLING CODE 6560-50-P